FEDERAL ELECTION COMMISSION

11 CFR Part 110

[Notice 2014-13]

Rulemaking Petition: Candidate Debates

AGENCY: Federal Election Commission.

ACTION: Rulemaking petition: Notice of availability.

SUMMARY: On September 11, 2014, the Federal Election Commission received a Petition for Rulemaking from Level the Playing Field. The petition asks the Commission to amend its regulation on candidate debates to revise the criteria governing the inclusion of candidates in presidential and vice presidential candidate debates. The Commission seeks comments on this petition.

DATES: Statements in support of or in opposition to the petition must be submitted on or before December 15, 2014.

ADDRESSES: All comments must be in writing. Comments may be submitted electronically via the Commission's Web site at http://www.fec.gov/fosers. Commenters are encouraged to submit comments electronically to ensure timely receipt and consideration. Alternatively, comments may be submitted in paper form. Paper comments must be sent to the Federal Election Commission, Attn.: Robert M. Knop, Assistant General Counsel, 999 E Street NW., Washington, DC 20463. Each comment must include the full name and postal service address of the commenter, and of each commenter if filed jointly, or it will not be considered. The Commission will post comments on its Web site at the conclusion of the comment period.

FOR FURTHER INFORMATION CONTACT: Mr. Robert M. Knop, Assistant General Counsel, or Ms. Jessica Selinkoff, Attorney, 999 E Street NW., Washington, DC 20463, (202) 694-1650 or (800) 424-9530.

SUPPLEMENTARY INFORMATION: On September 11, 2014, the Federal Election Commission received a Petition for Rulemaking from Level the Playing Field regarding the Commission's regulation at 11 CFR 110.13(c). That regulation governs the criteria that debate staging organizations (which the petitioner refers to as “sponsors”) use for inclusion in candidate debates. The regulation requires staging organizations to “use pre-established objective criteria to determine which candidates may participate in a debate” and further specifies that, for general election debates, staging organizations “shall not use nomination by a particular political party as the sole objective criterion to determine whether to include a candidate in a debate.” 11 CFR 110.13(c). The petition asks the Commission to amend 11 CFR 110.13(c) in two respects: (1) To preclude sponsors of general election presidential and vice presidential debates from requiring that a candidate meet a polling threshold in order to be included in the debate; and (2) to require sponsors of general election presidential and vice presidential debates to have a set of objective, unbiased criteria for debate participation that do not require candidates to satisfy a polling threshold. The Commission seeks comments on the petition.

Copies of the Petition for Rulemaking are available for public inspection on the Commission's Web site at http://www.fec.gov/fosers/ and in the Commission's Public Records Office, 999 E Street NW., Washington, DC 20463, Monday through Friday between the hours of 9 a.m. and 5 p.m. Interested persons may also obtain a copy of the petition by dialing the Commission's Faxline service at (202) 501-3413 and following its instructions, at any time of the day and week. Request document #275.

Consideration of the merits of the petition will be deferred until the close of the comment period. If the Commission decides that the petition has merit, it may begin a rulemaking proceeding. Any subsequent action taken by the Commission will be announced in the Federal Register.

On behalf of the Commission.
Lee E. Goodman,
Chairman, Federal Election Commission.

[FR Doc. 2014-26935 Filed 11-13-14; 8:45 am]

BILLING CODE 6715-01-P